DEPARTMENT OF COMMERCE

International Trade Administration

[C-533-825]

Polyethylene Terephthalate Film, Sheet, and Strip From India: Final Results of Countervailing Duty Administrative Review; 2018

AGENCY: Enforcement and Compliance, International Trade Administration, Department of Commerce.

SUMMARY: The Department of Commerce (Commerce) determines that Jindal Poly Films Limited of India (Jindal), producer and/or exporter of polyethylene terephthalate film, sheet, and strip (PET film) from India, received countervailable subsidies during the period of review (POR), January 1, 2018, through December 31, 2018.

DATES: Applicable May 17, 2021.

FOR FURTHER INFORMATION CONTACT: Nicholas Czajkowski or Konrad Ptaszynski, AD/CVD Operations, Office I, Enforcement and Compliance, International Trade Administration, U.S. Department of Commerce, 1401 Constitution Avenue NW, Washington, DC 20230; telephone: (202) 482-1395 or (202) 482-6187, respectively.

SUPPLEMENTARY INFORMATION:

Background

Commerce published the Preliminary Results of this review on November 23, 2020.¹ We invited interested parties to comment on our Preliminary Results. On February 25, 2021, Commerce extended the deadline to issue the final results of this review until May 21, 2021.² For a complete description of the events that occurred since the Preliminary Results, see the Issues and Decision Memorandum.³

¹ See Polyethylene Terephthalate Film, Sheet, and Strip from India: Preliminary Results and Partial Rescission of Countervailing Duty Administrative Review; 2018; 85 FR 74679 (November 23, 2020) (Preliminary Results), and accompanying Preliminary Decision Memorandum (PDM).

² See Memorandum, “Polyethylene Terephthalate Film, Sheet and Strip from India: Extension of Deadline for Final Results of Countervailing Duty Administrative Review; 2018,” dated February 25, 2021.

³ See Memorandum, “Issues and Decision Memorandum for the Final Results of the 2018 Administrative Review of the Countervailing Duty Order of Polyethylene Terephthalate Film, Sheet and Strip from India,” dated concurrently with, and hereby adopted by, this notice (Issues and Decision Memorandum).

Scope of the Order

The merchandise covered by the order is PET film. For a complete description of the scope, see the Issue and Decision Memorandum.

Analysis of Comments Received

All issues raised parties' briefs are addressed in the Issues and Decision Memorandum. A list of the issues addressed is attached to this notice as an appendix. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly on the internet at http://enforcement.trade.gov/frn/.

Changes Since the Preliminary Results

Based on the comments received from interested parties, we made changes to the net subsidy rate calculated for the mandatory respondent. For a discussion of these issues, see the Issues and Decision Memorandum.

Methodology

Commerce conducted this review in accordance with section 751(a)(1)(A) of the Tariff Act of 1930, as amended (the Act). For each of the subsidy programs found countervailable, we find that there is a subsidy, i.e., a government-provided financial contribution that gives rise to a benefit to the recipient, and that the subsidy is specific.⁴ For a description of the methodology underlying all of Commerce's conclusions, see the Issues and Decision Memorandum.

⁴ See sections 771(5)(B) and (D) of the Act regarding financial contribution; section 771(5)(E) of the Act regarding benefit; and section 771(5A) of the Act regarding specificity.

Final Results of Review

We determine the following net countervailable subsidy rate for the period January 1, 2018, through December 31, 2018:

Manufacturer/exporter | Subsidy rate (percent ad valorem)
Jindal Poly Films Limited of India | 11.67

Disclosure

Commerce intends to disclose the calculations performed for the final results of review within five days of the date of publication of this notice in the Federal Register, in accordance with 19 CFR 351.224(b).

Assessment Requirements

Consistent with section 751(a)(2)(C) of the Act and 19 CFR 351.212(b)(2), upon issuance of these final results, Commerce will determine, and U.S. Customs and Border Protection (CBP) shall assess, countervailing duties on all appropriate entries covered by this review. We intend to issue assessment instructions to CBP no earlier than 35 days after publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) of the Act, Commerce also intends to instruct CBP to collect cash deposits of estimated countervailing duties in the amount shown above for Jindal with regard to shipments of subject merchandise entered, or withdrawn from warehouse, for consumption on or after the date of publication of these final results of review. For all non-reviewed firms, CBP will continue to collect cash deposits of estimated countervailing duties at the all-others rate or the most recent company-specific rate applicable to the company, as appropriate. These cash deposit requirements, when imposed, shall remain in effect until further notice.

Administrative Protective Order

This notice also serves as a final reminder to parties subject to an administrative protective order (APO) of their responsibility concerning the disposition of proprietary information disclosed under APO in accordance with 19 CFR 351.305(a)(3). Timely written notification of the return or destruction of APO materials or conversion to judicial protective order, is hereby requested. Failure to comply with the regulations and terms of an APO is a sanctionable violation.

Notification to Interested Parties

The final results are issued and published in accordance with sections 751(a)(1) and 777(i)(1) of the Act and 19 CFR 351.221(b)(5).

Dated: May 11, 2021.
Christian Marsh,
Acting Assistant Secretary for Enforcement and Compliance.

Appendix

List of Topics Discussed in the Issues and Decision Memorandum

I. Summary

II. Background

III. Scope of the Order

IV. Period of Review

V. Subsidies Valuation Information

VI. Use of Facts Otherwise Available and Adverse Inferences

VII. Analysis of Programs

VIII. Analysis of Comments

Comment 1: Whether Commerce Should Find the Package Scheme of Incentives to be a Countervailable Subsidy

Comment 2: Whether Commerce has Correctly Determined the Benefits under the MEIS Program

Comment 3: Whether Commerce has Correctly Determined the Benefits under the SEIS Program

Comment 4: Whether Commerce used the Correct Long-Term Rupee-Denominated Interest Rates

IX. Recommendation

[FR Doc. 2021-10350 Filed 5-14-21; 8:45 am]

BILLING CODE 3510-DS-P